DEPARTMENT OF LABOR

Employment and Training Administration

[TA-W-56,802]

Molex, Inc., New England Operations, Gilford, NH; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance on April 14, 2005, applicable to workers of Molex, Inc., New England Operations, Gilford, New Hampshire. The workers are engaged in the production of electrical connectors.

New information provided by the petitioners show their intention was to apply for all available Trade Act benefits at the time of the filing. Therefore, the Department has made a decision to investigate further to determine if the workers are eligible to apply for Alternative Trade Adjustment Assistance.

Information obtained from the company states that a significant number of workers of the subject firm are age 50 or over, workers have skills that are not easily transferable, and conditions in the industry are adverse.

Review of this information shows that all eligibility criteria under Section 246 of the Trade Act of 1974 (26 U.S.C. 2813), as amended have been met for workers at the subject firm.

Accordingly, the Department is amending the certification to reflect its finding.

The amended notice applicable to TA-W-56,802 is hereby issued as follows:

”All workers of Molex, Inc., New England Operations, Gilford, New Hampshire, who became totally or partially separated from employment on or after March 23, 2004 through April 14, 2007, are eligible to apply for adjustment assistance under Section 223 of the Trade Act of 1974 and are also eligible to apply for Alternative Trade Adjustment Assistance under Section 246 of the Trade Act of 1974.”

Signed at Washington, DC, this 29th day of March 2006.
Elliott S. Kushner
Certifying Officer, Division of Trade Adjustment Assistance.

[FR Doc. E6-5517 Filed 4-12-06; 8:45 am]

BILLING CODE 4510-30-P